DEPARTMENT OF ENERGY

Federal Energy Regulatory Commission

[Docket No. RP01-144-000]

PG&E Gas Transmission, Northwest Corporation; Notice of Tariff Filing

December 6, 2000.

Take notice that on December 1, 2000, PG&E Gas Transmission, Northwest Corporation (GTN) tendered for filing as part of its FERC Gas Tariff, First Revised Volume No. 1-A: Thirtieth Revised Sheet No. 4, Sixteenth Revised Sheet No. 4A, and Twenty-sixth Revised Sheet No. 5. GTN requests that the above-referenced tariff sheets become effective January 1, 2001.

GTN asserts that the purpose of this filing is to request an increase in the current maximum fuel and line loss percentage from 0.0041% per Dth per pipeline mile to 0.0050% per Dth per pipeline mile. GTN states that this change is intended to facilitate GTN's timely recovery of fuel and line losses, and limit reliance on GTN's fuel and line loss surcharge percentage, which is used to true up out of period fuel use and line loss amounts.

GTN further states that a copy of this filing has been served on GTN's jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

David P. Boergers,
Secretary.

[FR Doc. 00-31579 Filed 12-11-00; 8:45 am]

BILLING CODE 6717-01-M